ENVIRONMENTAL PROTECTION AGENCY

[EPA-R04-OAR-2009-0751-201022(c); FRL-9150-4]

Adequacy Status of the Hickory-Morganton-Lenoir, North Carolina 1997 PM2.5 Attainment; Demonstration Motor Vehicle Emissions Budget for Transportation Conformity Purposes

AGENCY: Environmental Protection Agency (EPA).

ACTION: Notice of adequacy; correcting amendment.

SUMMARY: On March 1, 2010, EPA published a notice in the Federal Register to notify the public of an adequacy determination that the Agency made with regards to the motor vehicle emissions budget (MVEB) for nitrogen oxides (NOX) and for an insignificance determination related to fine particulate matter (PM2.5) for mobile sources' overall contribution to the PM2.5 pollution in the Hickory-Morganton-Lenoir area (hereafter referred to as the Hickory Area). In that notice, EPA identified the units of measure for the NOX MVEB as kilograms per day (kgd). EPA is publishing this amendment to correctly identify the units of measure for the NOX MVEB as kilograms per year (kgy). Additionally, the March 1, 2010, Federal Register notice included an inadvertent error to the docket ID number which is being corrected in this action.

DATES: This action is effective May 12, 2010.

ADDRESSES: Copies of the documentation used in the action being corrected are available for inspection during normal business hours at the following location: U.S. Environmental Protection Agency, Region 4, 61 Forsyth Street, SW., Atlanta, Georgia 30303-8960. The Regional Office's official hours of business are Monday through Friday, 8:30 to 4:30, excluding federal holidays.

FOR FURTHER INFORMATION CONTACT: Ms. Amanetta Somerville, Environmental Scientist, U.S. Environmental Protection Agency, Region 4, 61 Forsyth Street, SW., Atlanta, Georgia 30303-8960. Ms. Somerville can be reached at 404-562-9025, or via electronic mail at somerville.amanetta@epa.gov.

SUPPLEMENTARY INFORMATION: On August 21, 2009, the State of North Carolina, through the North Carolina Department of Environment and Natural Resources (NCDENR), submitted the attainment demonstration for the 1997 PM2.5 nonattainment area for the Hickory Area. The Hickory 1997 PM2.5 nonattainment area is comprised of Catawba County, North Carolina. North Carolina's attainment demonstration included a MVEB for NOX and an insignificance finding for the overall contribution of direct PM2.5 from mobile sources to the PM2.5 pollution in Catawba County.

EPA Region 4 sent a letter to NCDENR on January 20, 2010, stating that the 2009 NOX MVEB in the 1997 PM2.5 attainment demonstration for the Hickory Area was adequate for the purposes of transportation conformity purposes. The letter identified the NOX MVEB as 2,887,955 kgd. Subsequently, in response to North Carolina's submission, on March 1, 2010, EPA notified the public of its finding of adequacy for the NOX MVEB and also identified the NOX MVEB as 2,887,955 kgd. The units of measure provided in North Carolina's submission for the NOX MVEB are actually kgy and not kgd so EPA is correcting this error. The March 1, 2010, rulemaking also contained an inadvertent error to the docket ID number, published as EPA-R04-OAR-2009-0561. The correct docket ID number is EPA-R04-OAR-2009-0751, which EPA is correcting through this action.

On April 20, 2010, EPA sent a letter to North Carolina noting this error and announcing that a correcting amendment (this notice) would be published soon to alert the public to this correction. Below identifies the correct NOX MVEBs for the Hickory Area.

Hickory Area NOX MVEB
[Kilograms per year]
| 2009
Catawba County | 2,887,995

Authority: 42 U.S.C. 7401 et seq.

Dated: May 3, 2010.
A. Stanley Meiburg,
Acting Regional Administrator, Region 4.

[FR Doc. 2010-11304 Filed 5-11-10; 8:45 am]

BILLING CODE 6560-50-P